DEPARTMENT OF TRANSPORTATION

Federal Aviation Administration

Fifty-first Meeting, RTCA Special Committee 135: Environmental Conditions and Test Procedures for Airborne Equipment

AGENCY: Federal Aviation Administration (FAA), DOT.

ACTION: Notice of RTCA Special Committee 135 meeting.

SUMMARY: The FAA is issuing this notice to advise the public of a meeting of RTCA Special Committee 135: Environmental Conditions and Test Procedures for Airborne Equipment.

DATES: The meeting will be held March 11-13, 2008, starting at 9 am.

ADDRESSES: The meeting will be held at Honeywell Aerospace, 21111 N. 19th Ave., Presentation Room A, Phoenix, AZ.

FOR FURTHER INFORMATION CONTACT: (1) RTCA Secretariat, 1828 L Street, NW., Suite 805, Washington, DC 20036; telephone (202) 833-9339; fax (202) 833-9434; web site http://www.rtca.org.; Mike Kroeger, (E) mike.kroeger@honeywell.com.

SUPPLEMENTARY INFORMATION: Pursuant to section 10(a)(2) of the Federal Advisory Committee Act (Pub. L. 92-463, 5 U.S.C., Appendix 2), notice is hereby given for a Special Committee 135 meeting. The agenda will include:

• March 11-13:

• Opening Session (Welcome, Chairman's Opening Remarks, Introductions).

• Approval of Summary from the Fiftieth Meeting, RTCA Paper No. 292-SC135-665.

• Report on PMC Meeting and Release of DO-160F.

• My presentation.

• Change Summary.

• Status of SC 21-16F.

• Discuss & Approve Updated Terms of Reference.

• Review Change Proposals for DO-160G/Ed-14G.

• Deferred Comments: 1-59.

• New Comments.

• Update from Section 16 & 21 Working Groups Meetings.

• New/Unfinished Business.

• Review & Revise Process & Procedures for Change for DO-160G.

• Remove some of the human involvement (chairman and webmaster).

• Automate number assignment & log updates.

• Closing Plenary Session (Date and Place of Next Meeting).

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on February 15, 2008.
Francisco Estrada C.,
RTCA Advisory Committee.

[FR Doc. E8-4925 Filed 3-13-08; 8:45 am]

BILLING CODE 4910-13-M